DEPARTMENT OF DEFENSE

Office of the Secretary

[Docket ID DoD-2014-OS-0110]

Privacy Act of 1974; System of Records

AGENCY: National Guard Bureau, DoD.

ACTION: Notice to add a new System of Records.

SUMMARY: The National Guard Bureau proposes to add a new system of records, INGB 001, entitled “Freedom of Information Act (FOIA) and Privacy Act (PA) Case Files” to its inventory of record systems subject to the Privacy Act of 1974, as amended. The information in this system will be used for processing FOIA and PA requests and administrative appeals; for participating in litigation regarding agency action on such requests and appeals; and for assisting the NGB in carrying out any other responsibilities under the FOIA and PA.

DATES: Comments will be accepted on or before August 18, 2014. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jennifer Nikolaisen, 111 South George Mason Drive, AH2, Arlington, VA 22204-1373 or telephone: (571) 256-7838.

SUPPLEMENTARY INFORMATION: The National Guard Bureau notices for systems of records subject to the Privacy Act of 1974 (5 U.S.C. 552a), as amended, have been published in the Federal Register and are available from the address in FOR FURTHER INFORMATION CONTACT or from the Defense Privacy and Civil Liberties Web site at http://dpclo.defense.gov/. The proposed system report, as required by 5 U.S.C. 552a(r) of the Privacy Act of 1974, as amended, was submitted on June 13, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 11, 2014.
Aaron Siegel,
Alternate OSD Federal Register Liaison Officer, Department of Defense.

INGB 001

System Name:

Freedom of Information Act (FOIA) and Privacy Act (PA) Case Files.

System Location:

National Guard Bureau (NGB) Office of Information and Privacy (OIP), Office of the Chief Counsel, 111 South George Mason Drive, Arlington Hall 2, Arlington, VA 22204-1373.

Categories of Individuals Covered by the System:

Individuals who have requested documents under the provisions of the Freedom of Information Act or Privacy Act from the NGB FOIA Requester Service Center; individuals whose requests and/or records have been processed under the FOIA or PA and referred by other Federal agencies; and attorneys representing individuals submitting such requests.

Categories of Records in the System:

Original records created or compiled in response to FOIA or PA requests and administrative appeals. Requests include requesters' name, mailing address, FOIA or PA case number, subject of the request, telephone numbers and email addresses. Responses to such requests and administrative appeals include all related memoranda, correspondence, notes and other related or supporting documentation.

Authority for Maintenance of the System:

10 U.S.C. 113, Secretary of Defense; 5 U.S.C. 552, Public Information; Agency Rules, Opinions, Orders, Records, and Proceedings; 5 U.S.C. 552a, Records Maintained on Individuals; 32 CFR 329, NGB Privacy Program; DoD 5400.7-R, DoD FOIA Program; DoD 5400.11-R, DoD Privacy Program; and DoDD 5105.77, National Guard Bureau.

Purpose:

Information is being collected and maintained for the purpose of processing FOIA and PA requests and administrative appeals; for participating in litigation regarding agency action on such requests and appeals; and for assisting the NGB in carrying out any other responsibilities under the FOIA and PA.

Routine uses of records maintained in the system including categories of users and the purpose of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses may apply to this system.

Policies and practices for storing, retrieving, accessing, retaining, and disposing of records in the system:

Storage:

Paper records in file folders and electronic storage media.

Retrievability:

Retrieved by name of requester, subject matter, date of request, and FOIA or PA request case number.

Safeguards:

Paper records are maintained in locked file cabinets with access only to officials based on requirements of assigned duties. Computer databases are restricted to personnel working only within the Office of Information and Privacy that have a need-to know and are accessed with a common access card (CAC).

Retention and disposal:

Records of requests that are granted are destroyed two years after the date of reply. Records of requests that are denied in whole or part, no records responses, responses to requesters who do not adequately describe records being sought, or do not state a willingness to pay fees, and records which are appealed or litigated are destroyed six years after final action.

System manager(s) and address:

NGB/OIP Office of the Chief Counsel, 111 South George Mason Drive, Arlington Hall 2, Arlington, VA 22204-1373.

Notification procedure:

Individuals seeking to determine whether information about themselves is contained in this system of records should address written inquiries to NGB/OIP Office of the Chief Counsel, 111 South George Mason Drive, Arlington Hall 2, Arlington, VA 22204-1373.

Written requests must include a signed declaration and include the first and last name of the individual, the timeframe for which records are being requested and FOIA/PA Case number if possible, and a full mailing address in order to receive a response.

Record access procedures:

Individuals seeking access to information about themselves contained in this system should address written inquiries to NGB/OIP Office of the Chief Counsel, 111 South George Mason Drive, Arlington Hall 2, Arlington, VA 22204-1373.

Written requests must include a signed declaration and include the first and last name of the individual, the timeframe for which records are being requested and FOIA/PA Case number if possible, and a full mailing address in order to receive a response.

Contesting records procedures:

The NGB rules for accessing records and for contesting contents and appealing initial agency determinations are published at 32 CFR Part 329 or may be obtained from the system manager.

Record source categories:

Individuals who submit initial requests and administrative appeals pursuant to the FOIA; the agency records searched in the process of responding to such requests and appeals; DoD personnel assigned to handle such requests and appeals; other agencies or entities that have referred to the NGB requests concerning National Guard records or that have consulted with the NGB regarding the handling of particular requests; submitters of records; and information from those that have provided assistance to the NGB in making FOIA and PA access determinations.

Exemptions claimed for the system:

During the course of a FOIA or PA action, exempt materials from other systems of records may, in turn, become part of the case records in this system. To the extent that copies of exempt records from those other systems of records are entered into this FOIA or PA case record, the NGB hereby claims the same exemptions for the records from those other systems that are entered into this system, as claimed for the original primary systems of records which they are a part.

An exemption rule for this system has been promulgated in accordance with requirements of 5 U.S.C. 553(b)(1), (2), and (3), (c), and (e) and published in 32 CFR part 329. For additional information contact the system manager.

[FR Doc. 2014-16766 Filed 7-16-14; 8:45 am]

BILLING CODE 5001-06-P